DEPARTMENT OF AGRICULTURE

Office of the Secretary

Privacy Act of 1974; Revision of System of Records and Proposed New Routine Uses

AGENCY: Department of Agriculture (USDA).

ACTION: Notice of revision to the Privacy Act System of Records.

SUMMARY: The United States Department of Agriculture gives notice that it is proposing to revise its Privacy Act System of Records, USDA/FSA-2 entitled “Farm Records File (Automated).”

DATES: Effective Date: The revised system notice and the proposed routine uses will become effective 40 days after publication, on January 22, 2008, unless modified by a subsequent notice to incorporate public comments.

Comment date: Comments on this notice must be received on or before January 22, 2008 to be assured consideration. Although the Privacy Act requires only that the portion of the system which describes the “routine uses” of the system be published for comment, USDA invites comment on all portions of this notice.

FOR FURTHER INFORMATION CONTACT: Dan McGlynn, Deputy Director, Production, Emergencies, and Compliance Division, USDA, FSA, STOP 0517, 1400 Independence Avenue, SW., Washington, DC 20250-0517, by telephone at (202) 720-3463, or via e-mail at Dan.McGlynn@wdc.usda.gov.

SUPPLEMENTARY INFORMATION: The Farm Service Agency (FSA) proposes to revise some existing routine uses, remove an unnecessary routine use, establish new routine uses, and update and clarify the notice. Routine uses identify individuals, groups, and entities to which the information may be disclosed.

FSA proposes to: (1) Remove routine use 13 and redesignate the routine uses currently designated numbers 14 through 21 as numbers 13 through 20, respectively; (2) revise routine uses numbers 1, 10, and newly designated 16 and 20; (3) add five new routine uses to be designated as routine uses numbers 21, 22, 23, 24, and 25, respectively, for the USDA/FSA-2, Farm Records File; and (4) correct, revise, and add information in the following categories: System Location, Categories of Individuals Covered by the System, Categories of Records in the System, Authority for Maintenance of the System, Purpose(s), System Manager(s) and Address, and Record Source Categories in USDA/FSA-2.

Revise Routine Use 1

FSA is revising routine use number 1 to add designated marketing associations (DMAs) and loan servicing agents (LSAs) as entities approved to carry out Commodity Credit Corporation (CCC) marketing assistance loan and loan deficiency payment programs and also to list the types of data that will be made available. These entities were authorized to conduct business on behalf of FSA by the Farm Security and Rural Investment Act of 2002 (Pub. L. 107-171) and prior legislation.

Revise Routine Use 10

FSA is revising routine use number 10 to remove obsolete references to information about producers participating in the peanut production control and quota programs. Those programs were ended by the Farm Security and Rural Investment Act of 2002 (Pub. L. 107-171) and the use of such information is thus no longer needed. Once revised, routine use 10 would read as follows:

(10) To the Peanut Board with respect to producers of peanuts and their participation in the peanut price support program.

Remove Routine Use 13

FSA is deleting routine use number 13 and renumbering the remaining routine uses. Current routine use 13 regards disclosure of information to tobacco analysis laboratories of producers' names and addresses as well as crop-specific data regarding tobacco being analyzed prior to the marketing of such tobacco. This disclosure was needed for the Tobacco Quota and Price Support Programs, which were repealed by sections 611 through 613 of the American Jobs Creation Act of 2004 (Pub. L. 108-357), and thus is no longer needed.

Revise Routine Use 16 (formerly 17):

FSA proposes to revise the routine use currently designated number 17 and redesignated as number 16, to add farm numbers and cotton yields to the data currently received by cotton ginners. Cotton ginners already receive information relating to names, addresses, and cotton acreage. If disaster programs are enacted similar to recent disaster programs for cottonseed, the additional data will allow cotton ginners to more efficiently deliver disaster programs.

Revise Routine Use 20 (formerly 21):

FSA proposes to revise the routine use currently designated number 21 and redesignated as number 20, to reflect changes to information disclosed to State-certified or State-licensed appraisers and employees of Federal agencies other than USDA who are qualified to perform real estate appraisals. This revision is necessary due to changes in program names and/or designations within FSA. Specifically, Production Flexibility Contract Acres would be changed to read “Direct and Counter-cyclical Program (DCP) Contract Base Acres.” Further, a reference to “DCP cropland acres” would be added to agricultural use acres and cropland acres, a category already listed in routine use number 21, to replace the obsolete term “agricultural use acres.”

Once revised, newly designated routine use 20 would read as follows:

(20) To State-certified or State-licensed appraisers and employees of Federal agencies other than USDA qualified to perform real estate appraisals. The specific information that may be disclosed to such appraisers consists of:

—Direct and Counter-Cyclical Program (DCP) Contract Base Acres.

—Payment yields.

—DCP cropland and cropland acres.

—Copies of aerial photography.

—Conservation Reserve Program (CRP) acres.

—Highly erodible land (HEL) delineations.

—Wetland classifications.

Proposed New Routine Use 21

The first proposed new routine use, designated as number 21, would provide for disclosure of certain hard copy or electronic records in this system to cooperating Federal, State, and local agencies, as necessary for implementation of conservation programs. This limited disclosure falls within FSA's mandate to promote a viable agriculture economy and is essential for effective implementation of conservation programs. Cooperating Federal, State, and local agency employees are bound by ethical standards and State or local regulations not to further disclose such information without the permission of the client.

The specific information to be disclosed to the cooperating Federal, State, and local agencies employees consists of:

—Producer name/address/tax identification number.

—Digital imagery, including Common Land Unit (CLU) boundaries, calculated acreage, and farm, tract, and field identifiers.

—Environmental resources and disaster data.

—Conservation Reserve Program (CRP) data.

—Highly erodible land (HEL) delineations and data.

—Conservation Producer payment history.

—Wetlands classifications.

Proposed New Routine Use 22

The second proposed new routine use, designated as number 22, permits disclosure of certain electronic records in this system through incorporation of these records into the Comprehensive Information Management System (CIMS) in accordance with the Farm Security and Rural Investment Act of 2002, section 10706.

CIMS is a system of computer programs and databases, physically located in Kansas City, Missouri, that is jointly maintained by FSA and the Risk Management Agency (RMA) utilizing the services of an information technology contractor. CIMS contains producer, program, and land information from FSA, RMA, and approved insurance providers (AIPs), as defined in section 502(b) of the Federal Crop Insurance Act (7 U.S.C.1502(b)). CIMS acts as a repository of data and also combines, reconciles, defines, translates, and formats data in such a manner so it can be used by entities that have authorized access to CIMS.

CIMS will be used to help RMA and FSA administer their programs by allowing the agencies to discover and correct errors in reporting and assist the producer to provide consistent information to FSA, RMA, and AIPs.

The electronic information contained in CIMS will be disclosed to RMA and AIPs under contract with RMA and further disclosed to the AIP's insurance agents and loss adjusters. The electronic information may also be disclosed to any contractor engaged in the development or maintenance of CIMS. Such disclosures are necessary to administer and enforce requirements of the Federal crop insurance program, an integral part of the USDA farm program system. To ensure that AIPs, and their insurance agents and loss adjusters, are only receiving information related to their specific insureds, all requests for information provided through CIMS will be automatically validated by CIMS software. Validation is accomplished by checking producer information provided directly to CIMS by data requestors against an RMA maintained database of accepted policies incorporated into CIMS. AIPs will be required to sign a non-disclosure statement before accessing CIMS to preclude them from using the information for an unauthorized purpose or releasing the information to an unauthorized person or the public.

RMA and any contractor engaged in the development or maintenance of CIMS will have access to all FSA data incorporated into CIMS. FSA data will only be disclosed to the AIPs, their insurance agents and loss adjusters, for information associated with their insured producers and only with regard to such producers' farming operations contained in counties covered by their policies. The FSA data disclosed through access to CIMS data consist of:

—Electronic Producer and Member Entity Information, including a common producer name, address, tax identifier, identity type, and entity file.

—Current and prior crop year electronic report acreage information reported to FSA by producers, and acreage determined by FSA, as applicable, and farm and producer identifiers.

—Electronic production data/information used by both FSA and RMA to establish program benefits. This data/information is the basis for determination of accurate monetary benefits.

—Digital imagery and geospatial data layer containing CLU boundaries, calculated acres, State and county codes, and unique identifiers for those States in which the AIPs have contracted with RMA to sell crop insurance. This will enable AIPs to associate farm, tract, and CLU numbers to geospatial data for their insured producers. A CLU is an electronic representation of the boundaries of a piece of land, represented in latitudes and longitudes. It is the smallest unit of land that has a permanent, contiguous boundary; common land cover and land management; common owner; and common producer association.

Proposed New Routine Use 23

The third proposed new routine use, designated as number 23, permits disclosure of certain hard-copy records from this system of records to AIPs (excluding their insurance agents) and loss adjusters for their respective insured producers. This includes copies of their insured producer's form FSA-578, Producer Print Acreage Reports and photocopies of maps for associated land to be used for the purpose of fulfilling loss adjustment obligations as well as for audits and reviews of claims. Limited disclosure of this hard-copy information assists USDA in effectively administering and enforcing the national crop insurance program. The specific hard copy information to be disclosed to the AIPs (excluding their insurance agents) and loss adjusters for information associated with their insured producers and only with regard to such producers' farming operations contained in counties covered by their policies, consists of:

—Producer and Member Entity Information, including a common producer name, address, tax identifier, identity type, and entity file.

—Current and prior crop year acreage report information reported to FSA by producers, acreage determined by FSA, and associated maps.

—Production data/information used by both FSA and RMA to establish program benefits. This data/information is the basis for determination of accurate monetary benefits.

Proposed New Routine Use 24

The fourth proposed new routine use, designated as number 24, would permit disclosure of certain records in this file to cooperating Federal, State, and local agencies, including State universities, and sugar cane processors as necessary for implementation of hurricane disaster programs and other studies related to the sugar industry.

Limited sharing of data with cooperating Federal, State, and local agencies, including State universities, and sugar cane processors permits FSA to tailor its hurricane sugar cane disaster programs to specific local needs. In 2002 and 2005, hurricanes decimated the Louisiana sugar industry and FSA was directed to provide assistance. The sugar cane industry requested the assistance of Louisiana State University (LSU) in developing and implementing a program specifically designed to meet the needs of Louisiana. LSU requires limited data from FSA files to accomplish their role.

The hurricane sugar cane disaster programs are statutorily required to be administered through the sugar cane processing companies. Sugar cane processing companies pay growers for their sugar cane based on the revenue from the sugar extracted from the growers' sugar cane. Most of the Federal assistance for the hurricane sugar cane damage is statutorily required to be treated as sugar revenue lost to the processors and growers. Thus, FSA makes payments to the processors, who share the payments to growers as they would sugar revenue. LSU requires FSA grower acreage data to make the sugar loss calculations required as part of the processor's application for assistance under the hurricane sugar cane disaster programs.

This system of records is being amended to add a routine use allowing the limited disclosure of producer and farm information to employees of cooperating Federal, State, and local agencies, including State universities who are qualified to assist in the development and implementation of hurricane sugar cane disaster programs. The specific information to be disclosed to the employees of cooperating Federal, State, and local agencies, including State universities consists of:

• Producer name/address.

• Acreage and farm, tract, and field identifiers.

• Environmental resources and disaster data.

Proposed New Routine Use 25

The fifth proposed new routine use, designated as number 25, would permit disclosure of certain records in this file to appropriate agencies, entities, and persons as necessary to respond to suspected or confirmed compromise of the security or confidentiality of information in the system of records and to prevent, minimize, or remedy such harm.

A Federal agency's ability to respond quickly and effectively in the event of a breach of Federal data is critical to its efforts to prevent or minimize any consequent harm. An effective response necessitates disclosure of information regarding the breach to those individuals affected by it, as well as to persons and entities in a position to cooperate, either by assisting in notification to affected individuals or playing a role in preventing or minimizing harms from the breach.

This routine use will allow the disclosure of information in the course of responding to a breach of Federal data. This routine use will serve to protect the interests of the individuals whose information is at issue by allowing agencies to take appropriate steps to facilitate a timely and effective response, thereby improving their ability to prevent, minimize, or remedy any harm resulting from a compromise of data maintained in their systems of records.

This system of records is being amended to add a routine use allowing the limited disclosure to appropriate agencies, entities, and persons when (1) the agency suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Proposed Revisions to Other Categories of Information

FSA proposes to make changes to seven categories of information in the system of records because of agency reorganization, new programs, and advanced technologies. These changes have been made to the following: correction of the names and addresses listed in the categories of System Location and System Manager(s) and Address; the addition of another group of persons covered in the Categories of Individuals Covered by the System; the addition of types of files/records/materials collected and maintained due to new Congressionally approved programs and advanced technology in the Categories of Records in the System; the addition of new statutes listed in the Authority for Maintenance of the System, and to revise the reasons for collecting and maintaining information in this system of records in the Purpose(s).

Report

A “Report on Revised System,” required by 5 U.S.C. 552a(r) as implemented by the Office of Management and Budget (OMB) Circular A-130, was sent to the Chairman, Committee on Governmental Affairs, United States Senate; the Chairman, Committee on Government Reform and Oversight, House of Representatives; and the Administrator, Office of Information and Regulatory Affairs, Office of Management and Budget, on December 4, 2007.

Signed at Washington, DC, on December 4, 2007.
Charles F. Conner,
Acting Secretary of Agriculture.

USDA/FSA-2

SYSTEM NAME:

Farm Records File (Automated), USDA/FSA-2.

SYSTEM LOCATION:

This system of records is under the control of the Deputy Administrator for Farm Programs FSA, USDA, Stop 0539, P.O. Box 2415, Washington, DC 20250. The data will be maintained at the county FSA office which services the particular farm, the State FSA Office of the State where the particular county FSA office is located; the FSA Aerial Photography Field Office, 2222 West 2300 South, Salt Lake City, Utah 84119-2020; the Kansas City Administrative Office, 6501 Beacon Drive, Kansas City, Missouri 64133; the Kansas City Commodity Office, 6501 Beacon Drive, Kansas City, Missouri 64133, and the FSA National Office. The address of each county and State FSA office can be found in the local telephone directory under the heading “United States Government, Department of Agriculture, Farm Service Agency.”

CATEGORIES OF INDIVIDUALS COVERED BY THE SYSTEM:

Farm owners, operators, borrowers, and other producers.

CATEGORIES OF RECORDS IN THE SYSTEM:

The information in the system consists of electronic and hard copy documentation of participation in the active programs as well as discontinued programs. This includes names and addresses of producers and is not necessarily limited to farm allotments, quotas, bases, and history; compliance data; producer entity data; combined producer data; production and marketing data; lease and transfer of allotments and quotas; appeals; new grower applications; conservation program documents; program participation and payment documents; appraisals, leases, and data for farm reconstitution; and, for payment limitation and conservation compliance purposes, financial statements, and other applicable farm information such as tax statements, wills, trusts, partnership agreements, and corporate charters. Geospatial (GIS) data set, containing producer boundaries of Common Land Units (CLUs), farms, tracts, field identifiers and attributes used to identify the location of land that can be traced back to a producer's crops and benefits. By definition, a CLU identifies a farm's subdivisions and boundaries and is recommended as the common location identifier for reporting acreage. GIS Crop Reporting Layer, consisting of tabular crop acreage data and including producer share, location of land where a crop is planted, and crop acreage compliance data. Digital renditions of farm record boundaries, including farm, tract, CLUs (fields), and personal attributes of that property such as, but not limited to, cropland designation, wetland location, program participation designation (e.g., Conservation Reserve Program or CRP), and presence of structures located on a property (e.g., buildings, well heads, or other identifying structures). Crop Acreage Data used to promote a viable agriculture economy essential to effectively administering and enforcing the national crop insurance program and for the purpose of fulfilling loss adjustment obligations as well as audits and reviews of claims.

AUTHORITIES FOR MAINTENANCE OF THE SYSTEM:

7 U.S.C. 135b, 450j, 450k, 450l, 1281-1393, 1421-1449, 1461-1469, 1471-1471i; 15 U.S.C. 714-714p; 16 U.S.C. 590a-590q, 1301-1311, 1606, 2101-2111, 2201-2205, 3501, 3801-3847, 4601, 26 U.S.C. 6109; 40 U.S.C. 14101, 14505, and 43 U.S.C. 1592.

PURPOSE(S):

To deliver Federal farm program benefits and loans legislated by Congress to farm and ranch owners and operators to support farms and ranches, protect the environment, and enhance the marketing of agriculture products.

ROUTINE USES OF RECORDS MAINTAINED IN THE SYSTEM, INCLUDING CATEGORIES OF USERS AND THE PURPOSES OF SUCH USES:

Records contained in this system may be disclosed:

(1) To a cooperative marketing association (CMA), designated marketing association (DMA), or loan servicing agent (LSA) approved to carry out CCC price support loan and marketing programs. Records that will be disclosed include only data that is necessary for the CMA, DMA, or LSA, to make producer eligibility determinations, reasonable quantity determinations, producer payment limitations, and denied benefit determinations;

(2) To the appropriate agency, whether Federal, State, local, or foreign charged with the responsibility of investigating or prosecuting a violation of law, or of enforcing or implementing a statute, rule, regulation, or order issued pursuant thereto, of any records within this system when information available indicates a violation or potential violation of law, whether civil, criminal or regulatory in nature and whether arising by general statute or particular program statute, or by rule, regulation, or order issued pursuant thereto;

(3) To a court, magistrate, or administrative tribunal, or to opposing counsel in a proceeding before any of the above, of any record within the system which constitutes evidence in that proceeding, or which is sought in the course of discovery to the extent that records sought are relevant to the subject of the proceeding;

(4) To a Congressional office from the record of an individual in response to an inquiry from the Congressional office made at the request of that individual;

(5) To the Internal Revenue Service to establish the tax liability of individuals as required by the Internal Revenue Code;

(6) To State or local tax authorities having an agreement with CCC to withhold taxes or fees from loan proceeds;

(7) To the Bureau of Reclamation (BOR), but only that data necessary for the BOR to administer the Reclamation Act of 1982, as amended;

(8) To boards or other entities authorized by State statute to collect commodity assessments;

(9) To the Food Safety and Inspection Service;

(10) To the Peanut Board, with respect to producers of peanuts and their participation in the peanut price support program;

(11) To the Bureau of Indian Affairs the name and address of producers to assist in the distribution of funds to Native American Indians;

(12) To candidates for FSA county and/or community committee positions the names and addresses of producers in the county for the purpose of county committee elections;

(13) To the public who may inspect farm allotment and quota data for marketing quota crops, as required by the Agricultural Act of 1938, as amended;

(14) To State Foresters the names and addresses of producers and crop-specific data regarding their operations with respect to forestry conservation practices;

(15) To cotton buyers the names of cotton producers;

(16) To cotton ginners the names, addresses, farm numbers, cotton yields and cotton acreages;

(17) To members of Congress the names and addresses of producers;

(18) To the public when they need to obtain the names and addresses of producers who have loans with FSA or CCC to prevent such individual from purchasing a commodity that has been placed under CCC loan.

(19) To State or local taxing authorities or their contracted appraisal companies the name of and address of producers for tax appraisal purposes;

(20) To State-certified or State-licensed appraisers and employees of Federal agencies other than USDA qualified to perform real estate appraisals. The specific information to be disclosed to the appraiser is:

—Direct and Counter-cyclical Program (DCP) Contract Base Acres.

—Payment yields.

—DCP cropland and cropland acres.

—Copies of aerial photography.

—Conservation Reserve Program (CRP) acres.

—Highly erodible land (HEL) delineations.

—Wetland classifications;

(21) To cooperating Federal, State, and local agencies' employees who are qualified to implement conservation programs. The specific information to be disclosed to the cooperating Federal, State, and local agencies employees consists of:

—Producer name/address/tax identification number.

—Digital imagery, including Common Land Unit (CLU) boundaries, calculated acreage, and farm, tract, and field identifiers.

—Environmental resources and disaster data.

—Conservation Reserve Program (CRP) data.

—Highly erodible land (HEL) delineations and data.

—Conservation Producer payment history.

—Wetlands classifications;

(22) To RMA and any contractor engaged in the development or maintenance of CIMS, access to all FSA data incorporated into CIMS. To AIPs, their insurance agents and loss adjusters, for information associated with their insured producers and only with regard to such producers' farming operations contained in counties covered by their policies, access to CIMS data consist of:

—Electronic Producer and Member Entity Information, including a common producer name, address, tax identifier, identity type, and entity file.

—Current and prior crop year electronic report acreage information reported to FSA by producers, and acreage determined by FSA, as applicable, and farm and producer identifiers.

—Electronic production data/information used by both FSA and RMA to establish program benefits. This data/information is the basis for determination of accurate monetary benefits.

—Digital imagery and geospatial data layer containing CLU boundaries, calculated acres, State and county codes, and unique identifiers for those States in which the AIPs have contracted with RMA to sell crop insurance. This will enable AIPs to associate farm, tract, and CLU numbers to geospatial data for their insured producers. A CLU is an electronic representation of the boundaries of a piece of land, represented in latitudes and longitudes. It is the smallest unit of land that has a permanent, contiguous boundary; common land cover and land management; common owner; and common producer association.

(23) To the AIPs (excluding their insurance agents) and loss adjusters for information associated with their insured producers and only with regard to such producers' farming operations contained in counties covered by their policies consists of:

—Producer and Member Entity Information, including a common producer name, address, tax identifier, identity type, and entity file.

—Current and prior crop year acreage report information reported to FSA by producers, acreage determined by FSA, and associated maps.

—Production data/information used by both FSA and RMA to establish program benefits.

(24) To employees of cooperating Federal, State, and local agencies, including State universities who are qualified to implement hurricane disaster programs or analyze the sugar industry. The specific information to be disclosed to the employees of cooperating Federal, State, and local agencies, including State universities consists of:

—Producer name/address.

—Acreage and farm, tract, and field identifiers.

—Environmental resources and disaster data.

(25) To appropriate agencies, entities, and persons when: (1) The agency suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

POLICIES AND PRACTICES FOR STORING, RETRIEVING, ACCESSING, RETAINING, AND DISPOSING OF RECORDS IN THE SYSTEM:

STORAGE:

Records are maintained in file folders and Department computer systems at applicable locations as set out above under the heading “System Location.”

RETRIEVABILITY:

Records may be indexed by individual name, farm number, tax identification number, Social Security Number, or loan number.

SAFEGUARDS:

Records are kept in locked Government office buildings. Access to these records is limited to authorized FSA personnel and representatives. Records stored in computer files are protected by passwords and other electronic security systems. Additionally, any negotiable documents, such as warehouse receipts, are kept in a fireproof cabinet.

RETENTION AND DISPOSAL:

Program documents are destroyed within 6 years after end of participation, except for conservation program documents, which are retained for periods sufficient to insure compliance equal to the life of the practice. Other documents, such as powers of attorney or leases, are destroyed after such document is no longer valid. Original loan notes are returned to producers after liquidation of loan.

SYSTEM MANAGER(S) AND ADDRESS:

Deputy Administrator for Farm Programs, FSA, USDA, Stop 0539, P.O. Box 2415, Washington, DC 20013.

NOTIFICATION PROCEDURE:

An individual may request information regarding this system of records or information as to whether the system contains records pertaining to the individual from the System Manager listed above.

RECORD ACCESS PROCEDURES:

An individual may obtain information about a record in the system which pertains to such individual by submitting a written request to the above listed System Manager. The envelope and letter should be marked “Privacy Act Request.” A request for information pertaining to an individual should contain: Name, address, ZIP code, name of system of record, year of records in question, and any other pertinent information to help identify the file.

CONTESTING RECORD PROCEDURES:

Individuals desiring to contest or amend information maintained in the system should direct their request to the above listed System Manager, and should include the reason for contesting it and the proposed amendment to the information with supporting information to show how the record is inaccurate. A request for contesting records pertaining to an individual should contain: Name, address, ZIP code, name of system of record, year of records in question, and any other pertinent information to help identify the file.

RECORD SOURCE CATEGORIES:

Information in this system is submitted by county and State Committees and their representatives, the Office of Inspector General and other investigatory agencies, the Office of the General Counsel, the Kansas City Commodity Office, the Kansas City Management Office, the Natural Resources and Conservation Service, by third parties, and by the individual who is the subject of the file.

[FR Doc. E7-24056 Filed 12-11-07; 8:45 am]

BILLING CODE 3410-05-P